DEPARTMENT OF COMMERCE

International Trade Administration

[A-533-843]

Certain Lined Paper Products From India: Final Results of Antidumping Duty Administrative Review and Final Determination of No Shipments; 2019-2020

AGENCY: Enforcement and Compliance, International Trade Administration, Department of Commerce.

SUMMARY: The Department of Commerce (Commerce) determines that Navneet Education Ltd. (Navneet), a producer/exporter subject to this administrative review, made sales of certain lined paper products from India at less than normal value during the period of review (POR) September 1, 2019, through August 31, 2020. In addition, Commerce determines that Goldenpalm Manufacturers PVT Limited (Goldenpalm) had no shipments during the POR.

DATES: Applicable March 29, 2022.

FOR FURTHER INFORMATION CONTACT: Samuel Brummitt, AD/CVD Operations, Office III, Enforcement and Compliance, International Trade Administration, U.S. Department of Commerce, 1401 Constitution Avenue NW, Washington, DC 20230; telephone: (202) 482-7851.

SUPPLEMENTARY INFORMATION:

Background

On October 1, 2021, Commerce published the Preliminary Results of this administrative review.¹ On January 26, 2022, Commerce extended these final results by an additional 60 days.² The current deadline for these final results is March 30, 2022. Commerce conducted this administrative review in accordance with section 751(a)(1)(B) of the Tariff Act of 1930, as amended (the Act). For a complete description of the events that occurred since the Preliminary Results, see the Issues and Decision Memorandum.³

¹ See Certain Lined Paper Products from India: Preliminary Results of Antidumping Duty Administrative Review; Rescission of Administrative Review, in Part; and Preliminary Determination of No Shipments; 2019-2020, 86 FR 54426 (October 1, 2021) (Preliminary Results), and accompanying Preliminary Decision Memorandum.

² See Memorandum, “Extension of Deadline for Final Results,” dated January 26, 2022.

³ See Memorandum, “Issues and Decision Memorandum for the Final Results of the Antidumping Duty Order on Certain Lined Paper Products from India; 2019-2020,” dated concurrently with, and hereby adopted by, this notice (Issues and Decision Memorandum).

Scope of the Order

The products covered by this order are certain lined paper products from India. For a full description of the scope, see the Issues and Decision Memorandum.

Final Determination of No Shipments

In the Preliminary Results, we preliminarily found that Goldenpalm had no shipments of subject merchandise during the POR. Following the publication of the Preliminary Results, we received no comments from interested parties regarding Goldenpalm, nor has any party submitted record evidence which would call our preliminary determination of no shipments into question. Therefore, for the final results, we continue to find that Goldenpalm had no shipments of subject merchandise during the POR. Accordingly, consistent with Commerce's practice, we intend to instruct U.S. Customs and Border Protection (CBP) to liquidate any existing entries of merchandise produced by Goldenpalm, but exported by other parties, at the rate for the intermediate reseller, if available, or at the all-others rate.⁴

⁴ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Application of Adverse Facts Available

For these final results, we continue to find that Magic International Pvt. Ltd. and Marisa International withheld information requested by Commerce, failed to provide the requested information in a timely manner, and significantly impeded the proceeding, warranting a determination on the basis of the facts available under section 776(a) of the Act. Therefore, we continue to find that Magic International Pvt. Ltd. and Marisa International have not acted to the best of their abilities and the application of adverse facts available, pursuant to sections 776(a) and (b) of the Act, is warranted.

Rates for Non-Selected Companies

For the rate for non-selected respondents in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated a margin for Navneet, the sole mandatory respondent, that was not zero, de minimis, or based on facts available. Accordingly, Commerce is assigning Navneet's rate to companies not selected for individual examination, which are listed below.

Analysis of Comments Received

All issues raised in the case and rebuttal briefs are addressed in the Issues and Decision Memorandum. A list of the issues that parties raised and to which we responded in the Issues and Decision Memorandum is attached to this notice as an Appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties, we made changes to the margin analysis in the Preliminary Results regarding Navneet's U.S. date of sale variable, product form variable, and level of trade variable in the margin program.⁵

⁵ See Issues and Decision Memorandum at Comments 3, 4 and 5.

Final Results of the Review

As a result of this review, Commerce determines that the following weighted-average dumping margins exist for the period September 1, 2019, through August 31, 2020:

Exporter/producer | Weighted- average dumping margin (percent)
Navneet Education Ltd | 20.22
Magic International Pvt. Ltd | 215.93
Marisa International | 215.93
Companies Not Selected for Individual Review
Lodha Offset Limited | 20.22
Pioneer Stationery Pvt. Ltd | 20.22
SGM Paper Products | 20.22

Disclosure

We intend to disclose the calculations performed to parties in this proceeding within five days after publication of these final results in the Federal Register, in accordance with section 751(a) of the Act and 19 CFR 351.224(b).

Assessment Rates

Pursuant to section 751(a)(2)(A) of the Act and 19 CFR 351.212(b)(1), Commerce will determine, and CBP shall assess, antidumping duties on all appropriate entries of subject merchandise in accordance with the final results of this review. Pursuant to 19 CFR 351.212(b)(1), for Navneet, we calculated importer-specific ad valorem assessment rates based on the ratio of the total amount of dumping calculated for the examined sales to the total entered value of the sales. Where either the respondent's weighted-average dumping margin is zero or de minimis, within the meaning of 19 CFR 351.106(c)(1), or an importer-specific rate is zero or de minimis, we will instruct CBP to liquidate the appropriate entries without regard to antidumping duties.

For the companies which were not selected for individual review, we will assign an assessment rate based on the weighted-average dumping margin calculated for Navneet. The final results of this review shall be the basis for the assessment of antidumping duties on entries of merchandise covered by the final results of this review and for future deposits of estimated duties, where applicable.⁶

⁶ See section 751(a)(2)(C) of the Act.

For Goldenpalm, which we determined had no shipments during the POR, we will instruct CBP to liquidate any suspended entries associated with Goldenpalm pursuant to the reseller policy.⁷

⁷ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of certain lined paper products from India entered, or withdrawn from warehouse, for consumption on or after the date of publication of this notice in the Federal Register, as provided for by section 751(a)(2)(C) of the Act: (1) The cash deposit rate for the companies listed above will be the rate established in the final results of this administrative review; (2) for merchandise exported by manufacturers or exporters not covered in this review but covered in a prior segment of the proceeding, the cash deposit rate will continue to be the most recently established rate for the manufacturer or exporter in a completed segment of this proceeding; (3) if the exporter is not a firm covered in this review, a prior review, or the less-than-fair-value investigation, but the manufacturer is, the cash deposit rate will be the most recently established rate for the manufacturer of the merchandise in a completed segment of the proceeding; and (4) the cash deposit rate for all other producers or exporters will continue to be 3.91 percent, the all-others rate established in the LTFV investigation.⁸

⁸ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006).

These cash deposit requirements, when imposed, shall remain in effect until further notice.

Notification to Importers

This notice serves as a final reminder to importers of their responsibility under 19 CFR 351.402(f)(2) to file a certificate regarding the reimbursement of antidumping duties and/or countervailing duties prior to liquidation of the relevant entries during this POR. Failure to comply with this requirement could result in the Commerce's presumption that reimbursement of antidumping and/or countervailing duties has occurred and the subsequent assessment of double antidumping duties.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i) of the Act, and 19 CFR 351.221(b)(5).

Dated: March 21, 2022.
Lisa W. Wang,
Assistant Secretary for Enforcement and Compliance.

Appendix

List of Topics Discussed in the Issues and Decision Memorandum

I. Summary

II. Background

III. Scope of the Order

IV. Analysis of Comments

Comment 1: Whether Commerce Should Revise Programming Code Regarding Costs of Products Sold Only in Third Countries

Comment 2: Whether Commerce Should Allocate Certain Navneet Trust Expenses to Navneet

Comment 3: Whether Commerce Should Revise the Product Form Variable in the Home Market Program

Comment 4: Whether Commerce Should Revise the Level of Trade for U.S. Sales in the Margin Program

Comment 5: Whether Commerce Should Revise the U.S. Sale Date in the Margin Program

V. Recommendation

[FR Doc. 2022-06520 Filed 3-28-22; 8:45 am]

BILLING CODE 3510-DS-P